DEPARTMENT OF COMMERCE

International Trade Administration

[Application No. 92-14A001]

Export Trade Certificate of Review

ACTION: Notice of issuance of an amended Export Trade Certificate of Review to Aerospace Industries Association of America, Inc., Application no. 92-14A001.

SUMMARY: The U.S. Department of Commerce issued an amended Export Trade Certificate of Review to Aerospace Industries Association of America, Inc. (“AIA”) on July 9, 2018.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. The regulations implementing Title III are found at 15 CFR part 325 (2014). The U.S. Department of Commerce, International Trade Administration, Office of Trade and Economic Analysis (“OTEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

AIA's Export Trade Certificate of Review has been amended to:

1. Add the following companies as new Members of the Certificate within the meaning of section 325.2(l) of the Regulations (15 CFR 325.2(l)):

• ACUTRONIC USA, Inc.; Pittsburgh, PA (controlling entity ACUTRONIC Holding AG; Bubikon, Switzerland)

• ADI American Distributors LLC; Randolph, NJ

• Advanced Logistics for Aerospace (ALA); New York, NY (controlling entity ALA SpA; Naples, Italy)

• Aernnova Aerospace; Ann Arbor, MI (controlling entity Aernnova Aerospace; Miñano, Spain)

• Aero Metals Alliance Inc.; Northbrook, IL (controlling entity Aero Metals Alliance; Surrey, UK)

• AeroVironment, Inc.; Monrovia, CA

• AlixPartners, LLP; New York, NY

• Alta Devices, Inc.; Sunnyvale, CA (controlling entity Hanergy Holding Group Ltd.; Beijing, China)

• Altitude Industries, LLC; Overland Park, KS

• Amazon.com, Inc.; Seattle, WA

• American Metal Bearing Company; Garden Grove, CA (controlling entity Marisco, Ltd.; Kapolei, HI)

• Athena Manufacturing, LP; Austin, TX

• Boom Technology, Inc.; Denver, CO

• BRPH Architects Engineers, Inc.; Melbourne, FL

• Burns & McDonnell Engineering Corporation, Inc.; Kansas City, MO

• BWX Technologies, Inc.; Lynchburg, VA

• Cytec Engineered Materials, Inc.; Tempe, AZ (controlling entity Solvay Group; Brussels, Belgium)

• Delta Flight Products; Atlanta, GA (controlling entity Delta Air Lines, Inc.; Atlanta, GA)

• EPTAM Plastics; Northfield, NH

• Garmin International, Inc.; Olathe, KS (controlling entity Garmin Ltd.; Schaffhausen, Switzerland)

• General Atomics Aeronautical Systems, Inc.; Poway, CA (controlling entity General Atomics; San Diego, CA)

• Google LLC; Mountain View, CA (controlling entity Alphabet Inc.; Mountain View, CA)

• GSE Dynamics, Inc.; Hauppauge, NY

• Information Services Group, Inc.; Stamford, CT

• Integral Aerospace, LLC; Santa Ana, CA

• ITT Inc.; White Plains, NY

• Job Performance Associates, LLC; Jacksonville, FL

• JR Industries, Inc.; Westlake Village, CA

• ManTech International Corporation; Fairfax, VA

• Mercury Systems, Inc.; Andover, MA

• Net-Inspect, LLC; Kirkland, WA

• New England Airfoil Products, Inc.; Farmington, CT

• Nokia US; Murray Hill, NJ (controlling entity Nokia Corporation; Espoo, Finland)

• Norsk Titanium US Inc.; Plattsburgh, NY (controlling entity Norsk Titanium AS; Hønefoss, Norway)

• Omega Aerial Refueling Services, Inc.; Alexandria, VA

• Orbital ATK, Inc.; Dulles, VA

• Pegasus Steel, LLC; Goose Creek, SC

• PrecisionHawk Inc.; Raleigh, NC

• Primus Aerospace; Lakewood, CO

• PTC Inc.; Needham, MA

• Range Generation Next LLC; Sterling, VA (controlling entities Raytheon Company; Waltham, MA and General Dynamics IT; Fairfax, VA)

• Special Aerospace Services, LLC; Boulder, CO

• SupplyOn North America, Inc.; San Diego, CA (controlling entity SupplyOn AG; Hallbergmoos, Germany)

• The Aerospace Corporation, Civil Systems Group; El Segundo, CA (controlling entity The Aerospace Corporation; El Segundo, CA)

• The Lundquist Group LLC; New York, NY

• Tribus Aerospace Corporation; Poway, CA

• TT Electronics; Perry, OH (controlling entity TT Electronics plc; Woking, UK)

• Unitech Aerospace; Hayden, ID

2. Delete the following companies as Members of AIA's Certificate:

• Accurus Aerospace Corporation, LLC

• Aerospace Exports Incorporated

• AirMap

• Ascent Manufacturing, Inc.

• Aurora Flight Sciences Corporation

• Barnes Group Inc.

• C4 Associates, Inc.

• Camcode Division of Horizons, Inc.

• Castle Metals

• CDI Corporation

• Curtiss-Wright Corporation

• Cytec Industries, Inc.

• FLIR Systems, Inc.

• Fluor Corporation, Inc.

• HP Enterprise Services—Aerospace

• J Anthony Group, LLC

• Lavi Systems, Inc.

• LMI Aerospace, Inc.

• Micro-Coax, Inc.

• NYLOK, LLC

• Oxford Performance Materials

• Park-Ohio Holdings Corp

• SCB Training, Inc.

• Seal Science, Inc.

• SIFCO Industries, Inc.

• SITA

• Spacecraft Components Corporation

• Sunflower Systems

• United Parcel Services of America, Inc.

• Verizon Enterprise Solutions, Inc.

• Vogelhood

3. Change in name or address for the following Members:

• Acutec Precision Machining, Inc. of Saegertown, PA is now named Acutec Precision Aerospace, Inc. of Meadville, PA

• Alcoa Defense of Crystal City, VA is now named Arconic Inc. of New York, NY

• Computer Sciences Corporation of Falls Church, VA is now named DXC Technology Company of Tysons Corner, VA

AIA's amendment of its Export Trade Certificate of Review results in the following membership list:

• 3M Company, St. Paul, MN

• AAR Corp., Wood Dale, IL

• Accenture, Chicago, IL

• Acutec Precision Aerospace, Inc., Meadville, PA

• ACUTRONIC USA, Inc., Pittsburgh, PA

• ADI American Distributors LLC, Randolph, NJ

• Advanced Logistics for Aerospace (ALA), New York, NY

• Aerion Corporation, Reno, NV

• Aernnova Aerospace, Ann Arbor, MI

• Aerojet Rocketdyne, Rancho Cordova, CA

• Aero-Mark, LLC, Ontario, CA

• Aero Metals Alliance Inc., Northbrook, IL

• The Aerospace Corporation, Civil Systems Group, El Segundo, CA

• AeroVironment, Inc., Monrovia, CA

• AGC Aerospace & Defense, Oklahoma City, OK

• Aireon LLC, McLean, VA

• AlixPartners, LLP, New York, NY

• Allied Telesis, Inc., Bothell, WA

• Alta Devices, Inc., Sunnyvale, CA

• Altitude Industries, LLC, Overland Park, KS

• Amazon.com, Inc., Seattle, WA

• American Metal Bearing Company, Garden Grove, CA

• American Pacific Corporation, Las Vegas, NV

• Analytical Graphics, Inc., Exton, PA

• Apex International Management Company, Daytona Beach, FL

• Arconic Inc., New York, NY

• Astronautics Corporation of America, Milwaukee, WI

• Astronics Corporation, East Aurora, NY

• Athena Manufacturing, LP, Austin, TX

• AUSCO, Inc., Port Washington, NY

• Avascent, Washington, DC

• B&E Group, LLC, Southwick, MA

• BAE Systems, Inc., Rockville, MD

• Ball Aerospace & Technologies Corp., Boulder, CO

• Belcan Corporation, Cincinnati, OH

• Benchmark Electronics, Inc., Angleton, TX

• The Boeing Company, Chicago, IL

• Bombardier, Montreal, Canada

• Boom Technology, Inc., Denver, CO

• Boston Consulting Group, Boston, MA

• BRPH Architects Engineers, Inc., Melbourne, FL

• Burns & McDonnell Engineering Corporation, Inc., Kansas City, MO

• BWX Technologies, Inc., Lynchburg, VA

• CADENAS PARTsolutions, LLC, Cincinnati, OH

• CAE USA Inc., Tampa, FL

• Capgemini, New York, NY

• Celestica Inc., Toronto, Canada

• Click Bond, Inc., Carson City, NV

• Cobham, Arlington, VA

• CPI Aerostructures, Inc., Edgewood, NY

• Crane Aerospace & Electronics, Lynnwood, WA

• Cubic Corporation, Inc., San Diego, CA

• Cytec Engineered Materials, Inc., Tempe, AZ

• Cyient Ltd., Hyderabad, India

• Deloitte Consulting LLP, New York, NY

• Delta Flight Products, Atlanta, GA

• Denison Industries, Inc., Denison, TX

• Ducommun Incorporated, Carson, CA

• Dupont Company, New Castle, DE

• DXC Technology Company, Tysons Corner, VA

• Eaton Corporation, Cleveland, OH

• Elbit Systems of America, LLC, Fort Worth, TX,

• Embraer Aircraft Holding, Inc., Fort Lauderdale, FL

• EPS Corporation, Tinton Falls, NJ

• EPTAM Plastics, Northfield, NH

• Ernst Young LLP, New York, NY

• Esterline Technologies, Bellevue, WA

• Exostar, LLC, Herndon, VA

• Facebook, Inc., Menlo Park, CA

• Flextronics International USA, Inc., San Jose, CA

• Flight Safety International, Inc., Flushing, NY

• FS Precision Tech, Co. LLC, Compton, CA

• FTG Circuits, Inc., Chatsworth, CA

• Garmin International, Inc., Olathe, KS

• General Atomics Aeronautical Systems, Inc., Poway, CA

• General Dynamics Corporation, Falls Church, VA

• General Electric Aviation, Cincinnati, OH

• GKN Aerospace North America, Irving, TX

• Google LLC, Mountain View, CA

• GSE Dynamics, Inc., Hauppauge, NY

• Harris Corporation, Melbourne, FL

• HCL America Inc., Sunnyvale, CA

• HEICO Corporation, Hollywood, FL

• Hexcel Corporation, Stamford, CT

• Honeywell Aerospace, Phoenix, AZ

• Huntington Ingalls Industries, Inc., Newport News, VA

• IBM Corporation, Armonk, NY

• Information Services Group, Inc., Stamford, CT

• Integral Aerospace, LLC, Santa Ana, CA

• Iron Mountain, Inc., Boston, MA

• ITT Inc., White Plains, NY

• Jabil Defense & Aerospace Services LLC, St. Petersburg, FL

• Job Performance Associates, LLC, Jacksonville, FL

• JR Industries, Inc., Westlake Village, CA

• Kaman Aerospace Corporation, Bloomfield, CT

• KPMG LLP, New York, NY

• Kratos Defense & Security Solutions, Inc., San Diego, CA

• L-3 Communications Corporation, New York, NY

• LAI International, Inc., Scottsdale, AZ

• Leidos, Inc., Reston, VA

• Lockheed Martin Corporation, Bethesda, MD

• Lord Corporation, Cary, NC

• LS Technologies, LLC, Fairfax, VA

• The Lundquist Group LLC, New York, NY

• ManTech International Corporation, Fairfax, VA

• Marotta Controls, Inc., Montville, NJ

• Meggitt-USA, Inc., Simi, CA

• Mercury Systems, Inc., Andover, MA

• Microsemi Corporation, Aliso Viejo, CA

• Momentum Aviation Group, Woodbridge, VA

• MOOG Inc., East Aurora, NY

• MTorres America, Bothell, WA

• National Technical Systems, Inc., Calabasas, CA

• NEO Tech, Chatsworth, CA

• Net-Inspect, LLC, Kirkland, WA

• New England Airfoil Products, Inc., Farmington, CT

• Nokia US, Murray Hill, NJ

• The NORDAM Group, Inc., Tulsa, OK

• Norsk Titanium US Inc., Plattsburgh, NY

• Northrop Grumman Corporation, Los Angeles, CA

• Omega Aerial Refueling Services, Inc., Alexandria, VA

• O'Neil & Associates Inc., Miamisburg, OH

• Orbital ATK, Inc., Dulles, VA

• Pacific Design Technologies, Goleta, CA

• The Padina Group, Inc., Lancaster, PA

• Parker Aerospace, Irvine, CA

• Pegasus Steel, LLC, Goose Creek, SC

• Plexus Corporation, Neenah, WI

• PPG Aerospace-Sierracin Corporation, Sylmar, CA

• PrecisionHawk Inc., Raleigh, NC

• Primus Aerospace, Lakewood, CO

• Primus Technologies Corporation, Williamsport, PA

• PTC Inc., Needham, MA

• PWC Aerospace & Defense Advisory Services, McLean, VA

• Range Generation Next LLC, Sterling, VA

• Raytheon Company, Waltham, MA

• Rhinestahl Corporation, Mason, OH

• Rix Industries, Benicia, CA

• Rockwell Collins, Inc., Cedar Rapids, IA

• Rolls-Royce North America Inc., Reston, VA

• salesforce.com, inc., San Francisco, CA

• SAP America, Inc., Newtown Square, PA

• Securitas Critical Infrastructure Services, Inc., Springfield, VA

• Siemens PLM Software, Plano, TX

• Sierra Nevada Corporation, Littleton, CO

• Sparton Corporation, Schaumburg, IL

• Special Aerospace Services, LLC, Boulder, CO

• Spirit AeroSystems, Inc., Wichita, KS

• SupplyOn North America, Inc., San Diego, CA

• Tech Manufacturing, LLC, Wright City, MO

• Textron Inc., Providence, RI

• Therm, Incorporated, Ithaca, NY

• Tip Technologies, Waukesha, WI

• Tribus Aerospace Corporation, Poway, CA

• TriMas Aerospace, Los Angeles, CA

• Triumph Group Inc., Wayne, PA

• TT Electronics, Perry, OH

• Unitech Aerospace, Hayden, ID

• United Technologies Corporation, Hartford, CT

• Universal Protection Services, Santa Ana, CA

• Verify, Inc., Irvine, CA

• Virgin Galactic, LLC, Las Cruces, NM

• Wesco Aircraft Hardware Corporation, Valencia, CA

• Woodward, Inc., Fort Collins, CO

• Xerox, Norwalk, CT

The effective date of the amendment is April 4, 2018, the date on which AIA's application to amend was deemed submitted.

Dated: July 19, 2018.
Joseph Flynn,
Director, Office of Trade and Economic Analysis, International Trade Administration.

[FR Doc. 2018-15807 Filed 7-23-18; 8:45 am]

BILLING CODE 3510-DR-P